DEPARTMENT OF THE INTERIOR

National Park Service

[NPS-WASO-NAGPRA-NPS0028406; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate Federally-recognized Indian Tribes, and has determined that there is no cultural affiliation between the human remains and associated funerary objects and any present-day Federally-recognized Indian Tribes. Representatives of any Federally-recognized Indian Tribe not identified in this notice that wish to request transfer of control of these human remains and associated funerary objects should submit a written request to the TVA. If no additional requestors come forward, transfer of control of the human remains and associated funerary objects to the Federally-recognized Indian Tribe stated in this notice may proceed.

DATES: Representatives of any Federally-recognized Indian Tribe not identified in this notice that wish to request transfer of control of these human remains and associated funerary objects should submit a written request with information in support of the request to the TVA at the address in this notice by September 4, 2019.

ADDRESSES: Dr. Thomas O. Maher, Tennessee Valley Authority, 400 West Summit Hill Drive, WT11C, Knoxville, TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of the Tennessee Valley Authority, Knoxville, TN, and stored at the Alabama Museum of Natural History (AMNH) at the University of Alabama. The human remains and associated funerary objects were removed from the following archeological sites in Lauderdale County, AL: 1LU21, 1LU92, 1LU64, 1LU67, and 1LU72.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with representatives of the Alabama-Coushatta Tribe of Texas (previously listed as the Alabama-Coushatta Tribes of Texas); Alabama-Quassarte Tribal Town; Cherokee Nation; Coushatta Tribe of Louisiana; Eastern Band of Cherokee Indians; Eastern Shawnee Tribe of Oklahoma; Poarch Band of Creeks (previously listed as the Poarch Band of Creek Indians of Alabama); The Chickasaw Nation; The Choctaw Nation of Oklahoma; The Muscogee (Creek) Nation; Thlopthlocco Tribal Town; and the United Keetoowah Band of Cherokee Indians in Oklahoma (hereafter referred to as “The Consulted Tribes”).

History and Description of the Remains

The sites listed in this notice were excavated as part of TVA's Pickwick reservoir project by the Alabama Museum of Natural History (AMNH) at the University of Alabama, using labor and funds provided by the Works Progress Administration. Details regarding these excavations and sites may be found in An Archaeological Survey of Pickwick Basin in the Adjacent Portions of the States of Alabama, Mississippi and Tennessee, by William S. Webb and David L. DeJarnette. The human remains and associated funerary objects listed in this notice have been in the physical custody of AMNH at the University of Alabama since excavation but are under the control of the TVA. Human remains and other associated funerary objects from these sites were previously listed in a Notice of Inventory Completion (81 FR 60377-60380, September 1, 2016) and transferred to The Chickasaw Nation. Additional human remains and associated funerary objects were found during a recent improvement in the curation of the TVA archeological collections at AMNH.

From August 1937 to April 1938, human remains representing, at minimum, 28 individuals were removed from site 1LU21, in Lauderdale County, AL. Excavation commenced after TVA had acquired the land encompassing this site on February 19, 1937. Excavations focused on the earthen mound at this site. The mound was constructed in four stages, and supported at least four superimposed structures and two peripheral single post structures. The adjacent village was not part of these excavations. The primary occupation of this mound was during the Kogers Island phase of the Mississippian period (A.D. 1200-1500). These human remains represent four infants and 24 adults. The human remains were too fragmentary to identify sex. No known individuals were identified. No associated funerary objects are present.

From October 1937 to December 1938, human remains representing, at minimum, nine individuals were removed from site 1LU92, Lauderdale County, AL. Excavation commenced after TVA purchased this land November 27, 1935 for the Pickwick project. Site 1LU92 was composed of both a village and a cemetery. Excavations focused on the cemetery. There was no clear stratigraphy at the site. The excavators believed the village midden predates the cemetery. The later occupation is attributed to the Kogers Island phase of the Mississippian period (A.D. 1200-1500). The human remains include two adults and seven sub-adults. The sex could not be determined. No known individuals were identified. The 121 associated funerary objects are 114 shell beads, one bone awl, and six McKee Island Plain sherds.

From February to May 1937, and from February to March 1938, excavations took place at site 1LU64, 23 miles downstream from Florence, AL, on the Tennessee River in Lauderdale County, AL. TVA purchased the land encompassing site 1LU64 on October 28, 1936. Site 1LU64 was a Copena phase (A.D. 100-500) burial mound. The four associated funerary objects are two copper celts and two copper earspools.

From June to September 1936, excavations took place at the Long Branch site 1LU67, in Lauderdale County, AL. Excavation commenced after TVA purchased three parcels of land encompassing this site on January 11, 1935, September 16, 1935, and February 8, 1936. Site 1LU67 was located immediately adjacent to the Tennessee River. Although described as a mound, this site appears to have been from the accumulation of discarded shell, village midden, and alluvial soils rather than an intentionally constructed earthwork. This shell midden extended to a depth of 11 feet below surface. The Long Branch site had multiple occupations, including during the Middle Archaic (6000-4000 B.C.), Late Archaic (4000-1000 B.C.), Early Woodland (500-100 B.C.), Middle Woodland (100 B.C.-A.D. 500), Late Woodland (A.D. 500-1000) and Mississippian (A.D. 900-1500). It is not possible to determine from which level of occupation a burial unit originated. The two associated funerary objects are a bone atlatl hook and a stone atlatl weight.

From January to February 1938, excavations took place at the Union Hollow site 1LU72, in Lauderdale County, AL. Excavation commenced after TVA purchased the land encompassing this site in Lauderdale County, AL, on October 5, 1936 for the Pickwick Reservoir project. Site 1LU72 was located immediately adjacent to the Tennessee River. This shell mound was created from the accumulation of discarded shell, village midden, and alluvial soils rather than intentionally constructed earthworks. This shell midden extended to a depth of 10 feet below surface. Early flooding of the Pickwick reservoir abbreviated excavations at this site. The Union Hollow site had multiple occupations, including during the Late Archaic (4000-1000 B.C.), Early Woodland (500-100 B.C.), and Mississippian (A.D. 1200-1500). The one associated funerary object is a Bell Plain ceramic water bottle.

Determinations Made by the Tennessee Valley Authority

Officials of the Tennessee Valley Authority have determined that:

• Pursuant to 25 U.S.C. 3001(9), the human remains described in this notice are Native American based on their presence in prehistoric archeological sites and osteological analysis.

• Pursuant to 25 U.S.C. 3001(9), the human remains described in this notice represent the physical remains of 37 individuals of Native American ancestry.

• Pursuant to 25 U.S.C. 3001(3)(A), the 128 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgements of the Indian Claims Commission or the Court of Federal Claims, the land from which the cultural items were removed is the aboriginal land of the Cherokee Nation; Eastern Band of Cherokee Indians; and the United Keetoowah Band of Cherokee Indians in Oklahoma.

• The Treaty of September 20, 1816, indicates that the land from which the cultural items were removed is the aboriginal land of The Chickasaw Nation.

• Pursuant to 43 CFR 10.11(c)(1)(ii), the disposition of the cultural items may be to the Cherokee Nation; Eastern Band of Cherokee Indians; The Chickasaw Nation; and the United Keetoowah Band of Cherokee Indians in Oklahoma. The Cherokee Nation; Eastern Band of Cherokee Indians; and the United Keetoowah Band of Cherokee Indians in Oklahoma have declined to accept transfer of control of the human remains. The Tennessee Valley Authority has agreed to transfer control of the human remains to The Chickasaw Nation.

• Pursuant to 43 CFR 10.11(c)(4), the Tennessee Valley Authority has agreed to transfer control of the associated funerary objects to The Chickasaw Nation.

Additional Requestors and Disposition

Representatives of any Federally-recognized Indian Tribe not identified in this notice that wish to request transfer of control of these human remains and associated funerary objects should submit a written request with information in support of the request to Dr. Thomas O. Maher, Tennessee Valley Authority, 400 West Summit Hill Drive, WT11C, Knoxville, TN 37902-1401, telephone (865) 632-7458, email tomaher@tva.gov, by September 4, 2019. After that date, if no additional requestors have come forward, transfer of control of the human remains and associated funerary objects to The Chickasaw Nation may proceed.

The Tennessee Valley Authority is responsible for notifying The Consulted Tribes that this notice has been published.

Dated: July 9, 2019.
Melanie O'Brien,
Manager, National NAGPRA Program.

[FR Doc. 2019-16690 Filed 8-2-19; 8:45 am]

BILLING CODE 4312-52-P